DEPARTMENT OF HOMELAND SECURITY

Federal Emergency Management Agency

[Docket ID FEMA-2012-0003; Internal Agency Docket No. FEMA-B-1286]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Yavapai | City of Prescott (12-09-1886P) | The Honorable Marlin Kuykendall, Mayor, City of Prescott, 201 South Cortez Street, Prescott, AZ 86303 | Public Works Department, 201 South Cortez Street, Prescott, AZ 86303 | http://www.r9map.org/Docs/12-09-1886P-040098-102IAC.pdf | March 11, 2013 | 040098
Yavapai | City of Prescott Valley (12-09-1886P) | The Honorable Harvey C. Skoog, Mayor, Town of Prescott Valley, 7501 East Civic Circle, Prescott Valley, AZ 86314 | Engineering Division, 7501 East Civic Circle, Prescott Valley, AZ 86314 | http://www.r9map.org/Docs/12-09-1886P-040121-102IAC.pdf | March 11, 2013 | 040121
Yavapai | Unincorporated areas of Yavapai County (12-09-1886P) | The Honorable Thomas Thurman, Chairman, Yavapai County Board of Supervisors, 1015 Fair Street, Prescott, AZ 86305 | Yavapai County Flood Control District, 500 South Marina Street, Prescott, AZ 86303 | http://www.r9map.org/Docs/12-09-1886P-040093-102IAC.pdf | March 11, 2013 | 040093
California:
Mendocino | City of Ukiah (12-09-2827P) | The Honorable Mary Anne Landis, Mayor, City of Ukiah, 300 Seminary Avenue, Ukiah, CA 95482 | Planning and Community Development Department, 300 Seminary Avenue, Ukiah, CA 95482 | http://www.r9map.org/Docs/12-09-2827P-060186-102IAC.pdf | February 28, 2013 | 060186
San Bernardino | Town of Apple Valley (12-09-1907P) | The Honorable Barb Stanton, Mayor, Town of Apple Valley, 14955 Dale Evans Parkway, Apple Valley, CA 92307 | Engineering Department, 14955 Dale Evans Parkway, Apple Valley, CA 92307 | http://www.r9map.org/Docs/12-09-1907P-060752-102DA.pdf | March 11, 2013 | 060752
San Diego | City of San Marcos (12-09-1029P) | The Honorable Jim Desmond, Mayor, City of San Marcos, 1 Civic Center Drive, San Marcos, CA 92069 | Public Works Department, 1 Civic Center Drive, San Marcos, CA 92069 | http://www.r9map.org/Docs/12-09-1029P-060296-102IAC.pdf | March 7, 2013 | 060296
San Mateo | City of San Mateo (12-09-2887P) | The Honorable Brandt Grotte, Mayor, City of San Mateo, 330 West 20th Avenue, San Mateo, CA 94403 | Community Development Department, 330 West 20th Avenue, San Mateo, CA 94403 | http://www.r9map.org/Docs/12-09-2887P-060328-102DA.pdf | March 4, 2013 | 060328
Colorado:
Larimer | City of Fort Collins (12-08-0677P) | The Honorable Karen Weitkunat, Mayor, City of Fort Collins, P.O. Box 580, Fort Collins, CO 80521 | Stormwater Utilities Department, 700 Wood Street, Fort Collins, CO 80521 | http://www.bakeraecom.com/index.php/colorado/larimer/ | February 28, 2013 | 080102
Larimer | Unincorporated areas of Larimer County (12-08-0677P) | The Honorable Lew Gaiter III, Chairman, Larimer County Board of Commissioners, P.O. Box 1190, Fort Collins, CO 80522 | Larimer County Engineering Department, 200 West Oak Street, Fort Collins, CO 80521 | http://www.bakeraecom.com/index.php/colorado/larimer/ | February 28, 2013 | 080101
Florida:
Broward | City of Hallandale Beach (12-04-5196P) | The Honorable Joy Cooper, Mayor, City of Hallandale Beach, 400 South Federal Highway, Hallandale Beach, FL 33009 | Development Services, 2600 Hollywood Boulevard, Hallandale Beach, FL 33009 | http://www.bakeraecom.com/index.php/florida/broward/ | February 28, 2013 | 125110
Lee | Unincorporated areas of Lee County (12-04-2790P) | The Honorable John E. Manning, Chairman, Lee County Board of Commissioners, P.O. Box 398, Fort Myers, FL 33902 | Lee County Community Development Department, 1500 Monroe Street, 2nd Floor, Fort Myers, FL 33901 | http://www.bakeraecom.com/index.php/florida/lee-5/ | February 28, 2013 | 125124
Miami-Dade | City of Sunny Isles Beach (12-04-6055P) | The Honorable Norman S. Edelcup, Mayor, City of Sunny Isles Beach, 18070 Collins Avenue, Sunny Isles Beach, FL 33160 | Building and Development Department, 18070 Collins Avenue, Sunny Isles Beach, FL 33610 | http://www.bakeraecom.com/index.php/florida/miami-dade/ | March 11, 2013 | 120688
Monroe | Unincorporated Areas of Monroe County (12-04-5100P) | The Honorable David Rice, Mayor, Monroe County, Marathon Airport Terminal, 9400 Overseas Highway, Suite 210, Marathon, FL 33050 | Monroe County Building Department, 2798 Overseas Highway, Suite 330, Marathon, FL 33050 | http://www.bakeraecom.com/index.php/florida/monroe-3/ | February 18, 2013 | 125129
Monroe | Unincorporated Areas of Monroe County (12-04-6679P) | The Honorable David Rice, Mayor, Monroe County, Marathon Airport Terminal, 9400 Overseas Highway, Suite 210, Marathon, FL 33050 | Monroe County Building Department, 2798 Overseas Highway, Suite 330, Marathon, FL 33050 | http://www.bakeraecom.com/index.php/florida/monroe-3/ | February 4, 2013 | 125129
Orange | City of Orlando (12-04-5845P) | The Honorable Buddy Dyer Mayor, City of Orlando, P.O. Box 4990, Orlando, FL 32808 | Permitting Services, 400 South Orange Avenue, Orlando, FL 32801 | http://www.bakeraecom.com/index.php/florida/orange-2/ | March 8, 2013 | 120186
Hawaii: Hawaii | Unincorporated Areas of Hawaii County (12-09-1607P) | The Honorable William P. Kenoi, Mayor, Hawaii County, 25 Aupuni Street, Suite 2603, Hilo, HI 96720 | Hawaii County Office Building, Department of Public Works, 101 Pauahi Street, Suite 7, Hilo, HI 96720 | http://www.r9map.org/Docs/12-09-1607P-155166-102IAC.pdf | March 4, 2013 | 155166
Utah: Washington | City of St. George (12-08-0643P) | The Honorable Daniel D. McArthur, Mayor, City of St. George, 175 East 200 North, St. George, UT 84770 | Engineering Department, 175 East 200 North, St. George, UT 84770 | http://www.bakeraecom.com/index.php/utah/washington-4/ | February 25, 2013 | 490177

(Catalog of Federal Domestic Assistance No. 97.022, “Flood Insurance.”)

James A. Walke,
Acting Deputy Associate Administrator for Mitigation, Department of Homeland Security, Federal Emergency Management Agency.

[FR Doc. 2012-31653 Filed 1-3-13; 8:45 am]

BILLING CODE 9110-12-P